DEPARTMENT OF HEALTH AND HUMAN SERVICES

Centers for Medicare & Medicaid Services

[Document Identifier: CMS-10379]

Public Information Collection Requirements Submitted to the Office of Management and Budget (OMB); Correction

AGENCY: Centers for Medicare & Medicaid Services (CMS), HHS.

ACTION: Correction of notice.

SUMMARY: This document corrects the information provided for [Document Identifier: CMS-10379] titled “Rate Increase Disclosure and Review Reporting Requirements (45 CFR Part 154)” that was published in the Federal Register on June 1, 2011 (76 FR 31613).

FOR FURTHER INFORMATION CONTACT:

William N. Parham, III, (410) 786-4669.

SUPPLEMENTARY INFORMATION:

I. Background

In FR Doc. 2011-13458 of June 1, 2011 (76 FR 31316), we published a Paperwork Reduction Act notice requesting a 30-day public comment period for the information collection request titled “Rate Increase Disclosure and Review Reporting Requirements (45 CFR Part 154).” However, there was a technical error that is identified and corrected in the Correction of Errors section below. The information in this correction notice is effective as if it had been included in the document published June 1, 2011. Accordingly, the information collection requirements are not effective until approved by OMB.

II. Explanation of Error

In FR Doc. 2011-13458 of June 1, 2011 (76 FR 31316), information provided under column 3, between paragraphs 1 and 2, on page 69218, was inadvertently omitted. This notice corrects the omission by adding the appropriate instructions and contact information for individuals seeking copies of the proposed information collection.

III. Correction of Error

In FR Doc. 2011-13458 of June 1, 2011 (76 FR 31613),

page 31614, in the third column, in between the first and second paragraphs, the language is corrected to read as follows:

To obtain copies of the supporting statement and any related forms for the proposed paperwork collections referenced above, access CMS Web Site address at http://www.cms.gov/PaperworkReductionActof1995/PRAL/list.asp or E-mail your request, including your address, phone number, OMB number, and CMS document identifier, to Paperwork@cms.hhs.gov, or call the Reports Clearance Office on (410) 786-1326.

Dated: June 6, 2011.
Martique Jones,
Director, Regulations Development Group, Division B,
Office of Strategic Operations and Regulatory Affairs.

[FR Doc. 2011-14306 Filed 6-6-11; 4:15 pm]

BILLING CODE 4120-01-P